DEPARTMENT OF ENERGY

Federal Energy Regulatory Commission

Sunshine Act Meeting

April 2, 2003.

The following notice of meeting is published pursuant to Section 3(A) of the Government in the Sunshine Act (Pub. L. 94-409), 5 U.S.C 552B:

Agency Holding Meeting: Federal Energy Regulatory Commission.

Date and Time: April 9, 2003, 10 a.m.

Place: Room 2C, 888 First Street, NE., Washington, DC 20426.

Status: Open.

Matters To Be Considered: Agenda.

Note: Items listed on the agenda may be deleted without further notice.

Contact Person for More information: Magalie R. Salas, Secretary, telephone (202) 502-8400 for a recording listing items stricken from or added to the meeting, call (202) 502-8627.

This is a list of matters to be considered by the commission. It does not include a listing of all papers relevant to the items on the agenda; however, all public documents may be examined in the reference and information center.

824th Meeting—April 9, 2003; Regular Meeting, 10:00 a.m.

Administrative Agenda

A-1.

Docket# AD02-1, 000, Agency Administrative Matters

A-2.

Docket# AD02-7, 000, Customer Matters, Reliability, Security and Market Operations

Markets, Tariffs and rates—Electric

E-1.

Omitted

E-2.

Docket# ER03-300, 000, Pacific Gas and Electric Company

Other#s ER03-300, 001, Pacific Gas and Electric Company

E-3.

Docket# ER03-401, 000, Midwest Independent Transmission System Operator, Inc.

Other#s ER03-401, 001, Midwest Independent Transmission System Operator, Inc.

E-4.

Omitted

E-5.

Docket# ER03-547, 000, Southwest Power Pool, Inc.

E-6.

Docket# ER03-249, 000, Illinois Power Company

Other#s ER03-249, 001, Illinois Power Company

E-7.

Docket# ER03-560, 000, New York State Electric & Gas Corporation and Rochester Gas and Electric Corporation

E-8.

Docket# ER00-1053, 006, Maine Public Service Company

Other#s ER00-1053, 007, Maine Public Service Company

ER00-1053, 008, Maine Public Service Company

E-9.

Docket# ER98-1438, 012, Midwest Independent Transmission System Operator, Inc.

Other#s ER98-1438, 013, Midwest Independent Transmission System Operator, Inc.

ER02-111, 004, Midwest Independent Transmission System Operator, Inc.

ER02-111, 005, Midwest Independent Transmission System Operator, Inc.

E-10.

Docket# ER03-13, 001, New York Independent System Operator, Inc.

Other#s ER03-13, 002, New York Independent System Operator, Inc.

E-11.

Docket# ER01-3000, 006, International Transmission Company

Other#s RT01-101, 006, International Transmission Company

EC01-146, 006, DTE Energy Company

E-12.

Omitted

E-13.

Docket# ER02-1783, 000, Entergy Services, Inc.

E-14.

Docket# ER03-95, 001, American Electric Power Service Corporation

E-15.

Omitted

E-16.

Docket# ER98-3760, 006, California Independent System Operator Corporation

Other#s EC96-19, 057, Pacific Gas and Electric Company, San Diego Gas & Electric Company and Southern California Edison Company

ER96-1663, 060, Pacific Gas and Electric Company, San Diego Gas & Electric Company and Southern California Edison Company

E-17.

Docket# ER02-1021, 002, Ontario Energy Trading International Corp.

E-18.

Omitted

E-19.

Omitted

E-20.

Omitted

E-21.

Docket# PA02-2, 002, Fact-Finding Investigation into Possible Manipulation of Electric and Natural Gas Prices

E-22.

Omitted

E-23.

Docket# ER02-2595, 001, Midwest Independent Transmission System Operator, Inc.

E-24.

Docket# ER03-238, 001, New York Independent System Operator, Inc.

Other#s ER03-238, 002, New York Independent System Operator, Inc.

E-25.

Docket# EL02-41, 001, Pittsfield Generating Company, L.P.

Other#s QF88-21, 010, Pittsfield Generating Company, L.P.

E-26.

Omitted

E-27.

Docket# ER03-169, 001, Tampa Electric Company

E-28.

Docket# RM00-7, 008, Midwest Independent Transmission System Operator, Inc., New York Independent System Operator, Inc., PJM Interconnection, L.L.C.

E-29.

Docket# NJ03-1, 000, Sunflower Electric Power Corporation

E-30.

Docket# EL03-48, 000, Oildale Energy LLC

Other#s QF84-518, 005, Oildale Energy LLC

E-31.

Docket# ER02-1741, 001, Nevada Power Company

Other#s ER02-1742, 001, Nevada Power Company

ER02-2344, 000, Southern California Edison Company

E-32.

Docket# EL01-93, 005, ISO New England, Inc.

Other#s EL01-93, 006, ISO New England, Inc.

E-33.

Docket# ER02-1264, 000, Cabrillo Power I LLC and Cabrillo Power II LLC

Miscellaneous Agenda

M-1.

Docket# RM02-7, 000, Accounting, Financial Reporting, and Rate Filing Requirements for Asset Retirement Obligations

M-2.

Docket# RM02-14, 000, Regulation of Cash Managment Practices

M-3.

Docket# RM03-6, 000, Amendments to Conform Regulations with Order No. 630 (Critical Energy Infrastructure Information Final Rule)

Markets, Tariffs and Rates—Gas

G-1.

Docket# RP03-188, 000, East Tennessee Natural Gas Company

Other#s RP03-188, 001, East Tennessee Natural Gas Company

G-2.

Omitted

G-3.

Omitted

G-4.

Docket# RP03-172, 000, Transcontinental Gas Pipe Line Corporation

G-5.

Docket# PR02-18, 000, Nicor Gas

Other#s PR02-18, 001, Nicor Gas

PR02-18, 002, Nicor Gas

G-6.

Docket# RP02-241, 000, Williams Gas Pipelines Central, Inc.

Other#s RP02-241, 001, Williams Gas Pipelines Central, Inc.

RP02-241, 002, Williams Gas Pipelines Central, Inc.

G-7.

Docket# RP00-407, 003, High Island Offshore System, L.L.C.

Other#S RP00-619, 004, High Island Offshore System, L.L.C.

RP03-118, 000, High Island Offshore System, L.L.C.

G-8.

Docket# RP02-13, 005, Portland Natural Gas Transmission System

G-9.

Docket# RP00-414, 001, PG&E Gas Transmission, Northwest Corporation

Other#s RP01-15, 002, PG&E Gas Transmission, Northwest Corporation

G-10.

Docket# RP03-221, 001, High Island Offshore System, L.L.C.

G-11.

Docket# RP00-479, 001, Trailblazer Pipeline Company

Other#s RP00-479, 002, Trailblazer Pipeline Company

RP00-624, 001, Trailblazer Pipeline Company

RP00-624, 002, Trailblazer Pipeline Company

G-12.

Docket# RP00-332, 002 ANR Pipeline Company

Other#s RP00-332, 003, ANR Pipeline Company

RP00-597, 002, ANR Pipeline Company

RP03-182, 000, ANR Pipeline Company

G-13.

Docket# CP00-6, 007, Gulfstream Natural Gas System, L.L.C.

Other#s CP00-6, 008, Gulfstream Natural Gas System, L.L.C.

RP03-173, 000, Gulfstream Natural Gas System, L.L.C.

G-14.

Docket# GT02-34, 002, Natural Gas Pipeline Company of America

Other#s GT02-34, 001, Natural Gas Pipeline Company of America

G-15.

Docket# RP03-19, 002, Florida Gas Transmission Company

G-16.

Docket# RP02-335, 001, ANR Pipeline Company

G-17.

Docket# RP03-162, 002, Trailblazer Pipeline Company

G-18.

Docket# RP98-53, 026, Kinder Morgan Interstate Gas Transmission L.L.C.

Other#s GP98-29, 001, ONEOK Resources Company

G-19.

Docket# RP03-20, 002, Transwestern Pipeline Company

Other#s RP03-20, 001, Transwestern Pipeline Company

G-20.

Docket# RP02-362, 004, PG&E Gas Transmission, Northwest Corporation

Other#s RP02-362, 003, PG&E Gas Transmission, Northwest Corporation

Energy Projects—Hydro

H-1.

Docket# P-6058, 007, Hydro Development Group, Inc.

Other#s P-6058, 008, Hydro Development Group, Inc.

P-6059, 007, Hydro Development Group, Inc.

P-6059, 008, Hydro Development Group, Inc.

H-2.

Docket# P-2311,047, Great Lakes Hydro America, LLC

Other#s P-2288, 042, Public Service Company of New Hampshire

H-3.

Docket# P-2114, 111, The Yakama Nation v. Public Utilities District No. 2 of Grant County, Washington

H-4.

Docket# P-400, 038, Willard Janke v. Public Service Company of Colorado

Energy Projects—Certificates

C-1.

Docket# CP02-379, 001, Southern LNG Inc.

Other#s CP02-379, 000, Southern LNG Inc.

CP02-380, 000, Southern LNG Inc.

CP02-380, 001, Southern LNG Inc.

C-2.

Docket# CP02-90, 000, AES Ocean Express, LLC

Other#s CP02-90, 001, AES Ocean Express, LLC

CP02-91, 000, AES Ocean Express, LLC

CP02-92, 000, AES Ocean Express, LLC

CP02-93, 000, AES Ocean Express, LLC

CP02-93, 001, AES Ocean Express, LLC

C-3.

Docket# CP01-444, 000, Tractebel Calypso Pipeline, LLC

Other#s CP01-444, 001, Tractebel Calypso Pipeline, LLC

CP01-444, 002, Tractebel Calypso Pipeline, LLC

C-4.

Docket# CP01-79, 000, ANR Pipeline Company

C-5.

Docket# CP01-388, 002, Transcontinental Gas Pipe Line Corporation

C-6.

Omitted

C-7.

Docket# CP02-396, 001, Greenbrier Pipeline Company, LLC

Other#s CP02-396, 000, Greenbrier Pipeline Company, LLC

CP02-397, 000, Greenbrier Pipeline Company, LLC

CP02-397, 001, Greenbrier Pipeline Company, LLC

CP02-398, 000, Greenbrier Pipeline Company, LLC

CP02-398, 001, Greenbrier Pipeline Company, LLC

Magalie R. Salas,
Secretary.

[FR Doc. 03-8497 Filed 4-3-03; 10:46 am]

BILLING CODE 6717-01-P